DEPARTMENT OF HEALTH AND HUMAN SERVICES

Centers for Disease Control and Prevention

Task Force on Community Preventive Services

In accordance with section 10(a)(2) of the Federal Advisory Committee Act (Pub. L. 92-463), the Centers for Disease Control and Prevention (CDC) announces the following meeting:

Name: Task Force on Community Preventive Services.

Times and Dates: 8 a.m.-6 p.m. EST, June 25, 2008. 8 a.m.-1 p.m. EST, June 26, 2008.

Place: Centers for Disease Control and Prevention, 2500 Century Parkway, Atlanta, Georgia 30345.

Status: Open to the public, limited only by the space available.

Purpose: The mission of the Task Force is to develop and publish the Guide to Community Preventive Services (Community Guide), which consists of systematic reviews of the best available scientific evidence and associated recommendations regarding what works in the delivery of essential public health services.

Topics include:

• Interventions to reduce vaccine-preventable diseases: Updates to existing reviews

• Asthma—home visitation interventions

• Alcohol—hours and days of sale

• Worksite—On-site access to influenza vaccination

• Folic Acid—Community-wide education resupplements

Agenda items are subject to change as priorities dictate.

Persons interested in reserving a space for this meeting should call Charmen Crawford at 404-498-2498 by close of business on June 20, 2008.

Contact person for additional information: Charmen Crawford, Coordinating Center for Health Information and Services, National Center for Health Marketing, Office of the Director, 1600 Clifton Road, M/S E-69, Atlanta, GA 30333, phone: 404-498-2498.

Dated: June 4, 2008.
James D. Seligman,
Chief Information Officer, Centers for Disease Control and Prevention.

[FR Doc. E8-13114 Filed 6-10-08; 8:45 am]

BILLING CODE 4163-18-P